DEPARTMENT OF HEALTH AND HUMAN SERVICES

Centers for Disease Control and Prevention

Board of Scientific Counselors, Office of Public Health Preparedness and Response: Notice of Charter Renewal

This gives notice under the Federal Advisory Committee Act (Pub. L. 92-463) of October 6, 1972, that the Board of Scientific Counselors, Office of Public Health Preparedness and Response, Centers for Disease Control and Prevention (CDC), Department of Health and Human Services (HHS), has been renewed for a 2-year period through November 5, 2013.

For information, contact Daniel M. Sosin, M.D., M.P.H., Designated Federal Officer, Board of Scientific Counselors, Office of Public Health Preparedness and Response, CDC, HHS, 1600 Clifton Road NE., Mailstop D44, Atlanta, Georgia 30333, Telephone 404/639-7855, Fax 404/639-7977.

The Director, Management Analysis and Services Office, has been delegated the authority to sign Federal Register notices pertaining to announcements of meetings and other committee management activities, for both the Centers for Disease Control and Prevention and the Agency for Toxic Substances and Disease Registry.

Dated: December 6, 2011.
Elaine L. Baker,
Director, Management Analysis and Services Office, Centers for Disease Control and Prevention.

[FR Doc. 2011-31787 Filed 12-9-11; 8:45 am]

BILLING CODE 4163-18-P